DEPARTMENT OF ENERGY

Federal Energy Regulatory Commission

Combined Notice of Filings

Take notice that the Commission has received the following Natural Gas Pipeline Rate and Refund Report filings:

Filings Instituting Proceedings

Docket Numbers: RP19-115-000.

Applicants: Texas Eastern Transmission, LP.

Description: § 4(d) Rate Filing: Negotiated Rate—Direct Energy 8953561 to be effective 11/1/2018.

Filed Date: 10/24/18.

Accession Number: 20181024-5023.

Comments Due: 5 p.m. ET 11/5/18.

Docket Numbers: RP19-116-000.

Applicants: DTE Midstream Appalachia, LLC.

Description: § 4(d) Rate Filing: Tariff Filing in Compliance Comm Order CP17-409 to be effective 11/30/2018.

Filed Date: 10/24/18.

Accession Number: 20181024-5130.

Comments Due: 5 p.m. ET 11/5/18.

Docket Numbers: RP19-117-000.

Applicants: Texas Eastern Transmission, LP.

Description: § 4(d) Rate Filing: PCB TETLP DEC 2018 Filing to be effective 12/1/2018.

Filed Date: 10/24/18.

Accession Number: 20181024-5132.

Comments Due: 5 p.m. ET 11/5/18.

Docket Numbers: RP19-118-000.

Applicants: Natural Gas Pipeline Company of America.

Description: § 4(d) Rate Filing: Negotiated Rate Agreement-CapacityRelease Macquarie to be effective 10/24/2018.

Filed Date: 10/24/18.

Accession Number: 20181024-5146.

Comments Due: 5 p.m. ET 11/5/18.

Docket Numbers: RP19-119-000.

Applicants: Southern LNG Company, L.L.C.

Description: § 4(d) Rate Filing: SLNG Electric Power Cost Adjustment—2018 to be effective 12/1/2018.

Filed Date: 10/25/18.

Accession Number: 20181025-5018.

Comments Due: 5 p.m. ET 11/6/18.

Docket Numbers: RP19-120-000.

Applicants: OkTex Pipeline Company, L.L.C.

Description: Pre-Arranged/Pre-Agreed (Petition for Approval of Settlement) Filing, et al. of OkTex Pipeline Company, L.L.C. under RP19-120.

Filed Date: 10/24/18.

Accession Number: 20181024-5191.

Comments Due: 5 p.m. ET 11/5/18.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 25, 2018.
Nathaniel J. Davis, Sr.,
Deputy Secretary.

[FR Doc. 2018-23774 Filed 10-30-18; 8:45 am]

BILLING CODE 6717-01-P